EXPORT-IMPORT BANK OF THE UNITED STATES

[Public Notice: 2021-3002]

Agency Information Collection Activities: Comment Request

AGENCY: Export-Import Bank of the United States.

ACTION: Submission for OMB review and comments request.

SUMMARY: The Export-Import Bank of the United States (EXIM), as part of its continuing effort to reduce paperwork and respondent burden, invites the general public and other Federal Agencies to comment on the proposed information collection, as required by the paperwork Reduction Act of 1995.

DATES: Comments must be received on or before May 20, 2021 to be assured of consideration.

ADDRESSES: Comments may be submitted electronically on WWW.REGULATIONS.GOV (EIB 92-29) or by mail to Office of Information and Regulatory Affairs, 725 17th Street NW, Washington, DC 20038, Attn: OMB 3048-0017 The application tool can be reviewed at: https://www.exim.gov/sites/default/files//forms/eib92-29.pdf.

SUPPLEMENTARY INFORMATION: The Export-Import Bank of the United States, pursuant to the Export-Import Bank Act of 1945, as amended (12 U.S.C. 635, et seq.), facilitates the finance of the export of U.S. goods and services. The “Report of Premiums Payable for Exporters Only” form will be used by exporters to report and pay premiums on insured shipments to various foreign buyers.

Title and Form Number: EIB 92-29 Export-Import Bank Report of Premiums Payable for Exporters Only.

OMB Number: 3048-0017.

Type of Review: Renewal.

Need and Use: The “Report of Premiums Payable for Exporters Only” form is used by exporters to report and pay premiums on insured shipments to various foreign buyers under the terms of the policy and to certify that premiums have been correctly computed and remitted. The `Report of Premiums Payable for Exporters Only' is used by EXIM to determine the eligibility of the shipment(s) and to calculate the premium due to EXIM for its support of the shipment(s) under its insurance program.

Affected Public: This form affects entities involved in the export of U.S. goods and services.

Monthly Number of Respondents: 2,600.

Estimated Time per Respondent: 15 minutes.

Annual Burden Hours: 7,800 hours.

Frequency of Reporting or Use: Monthly.

Government Expenses:

Reviewing Time per Year: 7,800 hours.

Average Wages per Hour: $42.50.

Average Cost per Year: $331,500.

Benefits and Overhead: 20%.

Total Government Cost: $397,800.

Bassam Doughman,
IT Specialist.

[FR Doc. 2021-08028 Filed 4-19-21; 8:45 am]

BILLING CODE 6690-01-P